DEPARTMENT OF THE TREASURY

Office of the Secretary

31 CFR Part 1

RIN 1505-AC26

Privacy Act; Implementation

AGENCY: Departmental Offices, Treasury.

ACTION: Final rule: Technical Amendments.

SUMMARY: In accordance with the requirements of the Privacy Act of 1974, as amended, the Department of the Treasury is revising the title of an Internal Revenue Service (IRS) system of records identified in this part.

DATES: October 22, 2010.

FOR FURTHER INFORMATION CONTACT: Dale Underwood, Privacy Act officer, Department of the Treasury, 1500 Pennsylvania Avenue, NW., Washington, DC 20220. Telephone: 202-622-0874. FAX: 202-622-3895. E-mail: dale.underwood@do.treas.gov.

SUPPLEMENTARY INFORMATION: The Department of the Treasury is publishing separately in the Federal Register the notice of alterations to three systems of records maintained by the Office of Professional Responsibility. One of those systems, Treasury/IRS 37.009 had previously been entitled “Enrolled Agent Records.” On December 12, 2006, the Department published a notice in the Federal Register at 71 FR 69613 to amend the title to “Enrolled Agents and Resigned Enrolled Agents.” A concurrent change to the title found in the table at 31 CFR 1.36(g)(1)(viii) was not made at that time. This final rule amends the title of 37.009 from “Enrolled Agent Records” to Treasury/IRS 37.009—Enrolled Agent and Enrolled Retirement Plan Agent Records.” The Department has previously claimed an exemption from provisions of the Privacy Act for this system of records pursuant to 5 U.S.C. 552a(k)(2). No new exemptions are being claimed for this system.

Under 5 U.S.C. 552a(k)(2), the head of an agency may promulgate rules to exempt any system of records within the agency from certain provisions of the Privacy Act if the system contains investigatory material compiled for law enforcement purposes. This system of records continues to contain investigatory material compiled for law enforcement purposes.

These regulations are being published as a final rule because the amendments do not impose any requirements on any member of the public and do not alter the procedures relating to the way in which the Departmental Offices currently handle FOIA and PA obligations. These amendments are the most efficient means for the Treasury Department to implement its internal requirements for complying with the FOIA and the Privacy Act. Accordingly, pursuant to 5 U.S.C. 553(b)(B) and (d)(3), the Department of the Treasury finds good cause that prior notice and other public procedure with respect to this rule are impracticable and unnecessary and finds good cause for making this rule effective on the date of publication in the Federal Register.

The Department has determined that a notice of proposed rulemaking pursuant to 5 U.S.C. 553(b) is not required because these regulatory amendments do not change the legal effects of the current regulations nor do they have any impact on those regulated. The amendment updates a name change to an existing system.

As required by Executive Order 12866, it has been determined that this rule is not a significant regulatory action, and therefore, does not require a regulatory impact analysis.

The regulation will not have a substantial direct effect on the States, on the relationship between the Federal Government and the States, or on the distribution of power and responsibilities among the various levels of government. Therefore, it is determined that this rule does not have federalism implications under Executive Order 13132.

Pursuant to the requirements of the Regulatory Flexibility Act, 5 U.S.C. 601-612, it is hereby certified that these regulations will not significantly affect a substantial number of small entities. The rule imposes no duties or obligations on small entities.

In accordance with the provisions of the Paperwork Reduction Act of 1995, the Department of the Treasury has determined that this rule would not impose new recordkeeping, application, reporting, or other types of information collection requirements.

List of Subjects in 31 CFR Part 1

Privacy.

Part 1, subpart C of title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. Section 1.36 paragraph (g)(1)(viii) is amended by revising the entry “IRS 37.009” to read as follows:

§ 1.36 Systems exempt in whole or in part from provisions of 5 U.S.C. 522a and this subpart.

* * * * *

(g) * * *

(1) * * *

(viii) * * *

No. | System name
* * * * *
IRS 37.009 | Enrolled Agent and Enrolled Retirement Plan Agent Records.
* * * * *

Dated: September 28, 2010.
Melissa Hartman,
Deputy Assistant Secretary for Privacy, Transparency, and Records.

[FR Doc. 2010-26327 Filed 10-21-10; 8:45 am]

BILLING CODE 4830-01-P